DEPARTMENT OF VETERANS AFFAIRS

Research Advisory Committee on Gulf War Veterans' Illnesses, Amended, Notice of Meeting

The Department of Veterans Affairs (VA) gives notice under the Federal Advisory Committee Act, 5 U.S.C. Ch. 10., that the Research Advisory Committee on Gulf War Veterans' Illnesses (hereinafter the Committee) will meet by teleconference on February 12, 2024. The meeting will begin at 11 a.m. Eastern Standard Time (EST) and adjourn at 3 p.m. ET.

The open session will be available to the public by connecting to Webex URL: https://veteransaffairs.webex.com/veteransaffairs/j.php?MTID=mce20c7eb47a3f2e1ad620c4ffe8575de. Or, join by phone: 1-833-558-0712 Toll-free; meeting number (access code): 2760 876 6175. Meeting password: GWVets1991!

The purpose of the Committee is to provide advice and make recommendations to the Secretary of Veterans Affairs on proposed research studies, research plans, and research strategies relating to the health consequences of military service in the Southwest Asia theater of operations during the Gulf War in 1990-91.

The Committee will review VA program activities related to Gulf War Veterans' illnesses and updates on relevant scientific research published since the last Committee meeting. This meeting will focus on Federal Advisory Committee annual training, the Committee Charter and deliberation of Committee recommendations.

Time will be allocated for receiving public comments on February 12, 2024 at 2:30 p.m. EST. Individuals wishing to make public comments should contact Marsha Turner at VARACGWVI@va.gov. Public comment speakers are requested to submit a 1-2-page summary of their comments for inclusion in the official meeting record. Written comments will also be accepted for the record. Members of the public who have confirmed public speaker registrations will be allowed to provide public comment first followed by non-registered speakers time permitting. Each public comment speaker will be held to a 5-minute time limit. Individuals wishing to seek additional information should contact Dr. Karen Block, Designated Federal Officer, at Karen.Block@va.gov.

Dated: January 25, 2024.
LaTonya L. Small,
Federal Advisory Committee Management Officer.

[FR Doc. 2024-01826 Filed 1-29-24; 8:45 am]

BILLING CODE 8320-01-P